SMALL BUSINESS ADMINISTRATION

Celerity Partners SBIC, L.P.

[License No. 09/79-0445]

Notice Seeking Exemption Under Section 312 of the Small Business Investment Act, Conflicts of Interest

Notice is hereby given that Celerity Partners SBIC, L.P., 11150 Santa Monica Boulevard, Suite 1470, Los Angeles, CA 90025, a Federal Licensee under the Small Business Investment Act of 1958, as amended (“the Act”), in connection with the sale of a small concern, has sought an exemption under Section 312 of the Act, Section 107.730(a), you must not self-deal to the prejudice of a Small Business, the Licensee, its shareholders or partners, or SBA., and Section 107.730(e)(3), Associate must not receive any income or anything of value from the Portfolio Concern unless it is for your benefit, with the exception of director's fees, expenses, and distributions based upon the Associate's ownership interest in the Concern. The transaction is brought within the purview of Sections 107.730(a) and 107.730(e)(3) of the Regulations because which constitutes Conflicts of Interest of the Small Business Administration (“SBA”) Rules. Celerity Partners SBIC, L.P. proposes to sell eStudy Site Inc. (“eSS), 292 Euclid Ave, Suite 225, San Diego, California 92114, with NRI Clinical Research (“NRI”) and, Meridien Research, Inc. (“Meridien”). Because the Associates, Mark Benham and Matt Kraus, will receive proceeds from their investments and carried interests from Meridien and NRI, and a transaction fee, this transaction constitutes Conflict of Interest requiring SBA's prior written exemption.

Notice is hereby given that any interested person may submit written comments on this transaction within fifteen days of the date of this publication to the Associate Administrator, Office of Investment and Innovation, U.S. Small Business Administration, 409 Third Street SW., Washington, DC 20416.

A. Joseph Shepard,
Associate Administrator for Office of Investment and Innovation.

[FR Doc. 2017-19484 Filed 9-13-17; 8:45 am]

BILLING CODE P